DEPARTMENT OF JUSTICE

Notice of Proposed Settlement Agreement Under the Park System Resource Protection Act

Notice is hereby given that the United States Department of Justice, on behalf of the U.S. Department of the Interior, National Park Service (“DOI”) has reached a settlement with Robert D. McDougal, III, his wife, Anne McDougal, and the vessel Happy Days (in rem) regarding claims for response costs and damages under the Park System Resource Protection Act (“PSRPA”), 16 U.S.C. 19jj et seq.

The United States' claim arises from the grounding of the vessel “Happy Days V” in Biscayne National Park on January 29, 1999. The grounding damaged a shoal, sediment, and the associated seagrass community. Pursuant to the Agreement, the United States will recover $189,963.00.

The Department of Justice will receive for a period of thirty (30) days from the date of this publication comments relating to the Settlement Agreement. Comments should be addressed to the Assistant Attorney General, Environmental and Natural Resources Division, and either e-mailed to pubcomment-ees.enrd@usdoj.gov or mailed to P.O. Box 7611, U.S. Department of Justice, Washington, DC 20044-7611, and should refer to the Settlement Agreement between the United States and the McDougals, D.J. Ref. 90-5-1-1-07746.

The proposed Settlement Agreement may be examined at Biscayne National Park, 9700 SW., 328th St., Homestead, FL 33033, and at the Department of the Interior, Office of the Solicitor, Southeast Regional Office, Richard B. Russell Federal Building, 75 Spring Street, SW., Atlanta, Georgia 30303. During the public comment period, the Settlement Agreement may also be examined on the following Department of Justice Web site, http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.75 (25 cents per page reproduction cost) payable to the U.S. Treasury or, if by e-mail or fax, forward a check in that amount to the Consent Decree Library at the stated address.

Ronald Gluck,
Assistant Chief, Environmental Enforcement Section, Environment and Natural Resources Division.

[FR Doc. 07-2573 Filed 5-23-07; 8:45 am]

BILLING CODE 4410-15-M